NATIONAL AERONAUTICS AND SPACE ADMINISTRATION

[Notice 13-146]

Notice of Intent To Grant a Partially Exclusive License

AGENCY: National Aeronautics and Space Administration.

ACTION: Notice of intent to grant partially exclusive license.

SUMMARY: This notice is issued in accordance with 35 U.S.C. 209(e) and 37 CFR 404.7(a)(1)(i). NASA hereby gives notice of its intent to grant a partially exclusive license in the United States to practice the inventions described and claimed in U.S. Patent No. 7,075,295 B2, “Magnetic Field Response Sensor for Conductive Media,” NASA Case No. LAR-16571-1; U.S. Patent No. 7,589,525 B2, “Magnetic Field Response Sensor for Conductive Media,” NASA Case No. LAR-16571-2; U.S. Patent No. 7,255,004 B2, “Wireless Fluid Level Measuring System,” NASA Case No. LAR-17155-1; U.S. Patent No. 7,086,593 B2, “Magnetic Field Response Measurement Acquisition System,” NASA Case No. LAR-16908-1; U.S. Patent No. 7,159,774 B2, “Magnetic Field Response Measurement Acquisition System,” NASA Case No. LAR-17280-1; U.S. Patent No. 8,430,327 B2, “Wireless Sensing System Using Open-Circuit, Electrically-Conductive Spiral-Trace Sensor,” NASA Case No. LAR-17294-1; and U.S. Patent No. 7,711,509 B2, “Method of Calibrating a Fluid-Level Measurement System,” NASA Case No. LAR-17480-1 to Caplan Taylor Enterprises LLC (DBA Tidewater Sensors LLC) having its principal place of business in Newport News, Virginia. The fields of use may be limited to, but not necessarily limited to, fluid level measurement in automotive (including cars, trucks, recreational vehicles, and motorcycles) and train applications limited to gasoline, diesel fuel, biodiesel fuel, fuel oil, waste water, and liquid waste. The patent rights in these inventions have been assigned to the United States of America as represented by the Administrator of the National Aeronautics and Space Administration. The prospective partially exclusive license will comply with the terms and conditions of 35 U.S.C. 209 and 37 CFR 404.7.

DATES: The prospective partially exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated partially exclusive license.

Objections submitted in response to this notice will not be made available to the public for inspection and, to the extent permitted by law, will not be released under the Freedom of Information Act, 5 U.S.C. 552.

ADDRESSES: Objections relating to the prospective license may be submitted to Patent Counsel, Office of Chief Counsel, NASA Langley Research Center, MS 30, Hampton, VA 23681; (757) 864-3230 (phone), (757) 864-9190 (fax).

FOR FURTHER INFORMATION CONTACT: Robin W. Edwards, Patent Counsel, Office of Chief Counsel, NASA Langley Research Center, MS 30, Hampton, VA 23681; (757) 864-3230; Fax: (757) 864-9190. Information about other NASA inventions available for licensing can be found online at http://technology.nasa.gov.

Sumara M. Thompson-King,
Deputy General Counsel.

[FR Doc. 2013-29408 Filed 12-9-13; 8:45 am]

BILLING CODE 7510-13-P